ENVIRONMENTAL PROTECTION AGENCY

40 CFR Part 52

[EPA-R04-OAR-2007-1091; FRL-8525-5]

Approval and Promulgation of Implementation Plans Kentucky: Tennessee Valley Authority Paradise Facility State Implementation Plan Revision

AGENCY: Environmental Protection Agency (EPA).

ACTION: Proposed rule.

SUMMARY: EPA is proposing to approve a source specific State Implementation Plan (SIP) revision submitted on October 19, 2007, by the Kentucky Division for Air Quality (KDAQ). The purpose of the SIP revision is to remove from the Kentucky State Implementation Plan a previous source-specific revision approved by EPA on August 25, 1989, and relating to the redistribution of sulfur dioxide (SO2) emissions from Tennessee Valley Authority's (TVA's) Paradise Steam Plant located in Muhlenburg County, Kentucky. This proposal includes SO2 limits that are more stringent than the current SIP-approved statewide SO2 limits for electric generating units (EGUs). Consistent with Kentucky Administrative Regulations (KAR) approved into the SIP, affected facilities located in Muhlenberg County are subject to an SO2 emission limit of 3.1 pounds per million British Thermal Units (lbs/mmBTU). The 3.1 lbs/mmBTU limit was approved by EPA in June 24, 1983, as part of Kentucky's control strategy for attaining and maintaining the primary and secondary SO2 national ambient air quality standard (NAAQS) in Muhlenberg County. This SIP revision proposes a limit of 1.2 lbs/mmBTU for all three units with limited bypass emissions of 3.1 lbs/mmBTU for scrubber maintenance on Unit 3.

DATES: Written comments must be received on or before March 6, 2008.

ADDRESSES: Submit your comments, identified by Docket ID Number, “EPA-R04-OAR-2007-1091,” by one of the following methods:

1. www.regulations.gov: Follow the on-line instructions for submitting comments.

2. E-mail: lesane.heidi@epa.gov.

3. Fax: 404-562-9019.

4. Mail: “EPA-R04-OAR-2007-1091,” Regulatory Development Section, Air Planning Branch, Air, Pesticides and Toxics Management Division, U.S. Environmental Protection Agency, Region 4, 61 Forsyth Street, SW., Atlanta, Georgia 30303-8960.

5. Hand Delivery or Courier: Heidi LeSane, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 a.m. to 4:30 p.m., excluding federal holidays.

Instructions: Direct your comments to Docket ID Number, “EPA-R04-OAR-2007-1091.” EPA's policy is that all comments received will be included in the public docket without change and may be made available online at www.regulations.gov, including any personal information provided, unless the comment includes information claimed to be Confidential Business Information (CBI) or other information whose disclosure is restricted by statute. Do not submit through www.regulations.gov or e-mail, information that you consider to be CBI or otherwise protected. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 a.m. to 4:30 p.m., excluding federal holidays.

FOR FURTHER INFORMATION CONTACT: Heidi LeSane, Regulatory Development Section, Air Planning Branch, Air, Pesticides and Toxics Management Division, U.S. Environmental Protection Agency, Region 4, 61 Forsyth Street, SW., Atlanta, Georgia 30303-8960. The telephone number is (404) 562-9074. Ms. LeSane can also be reached via electronic mail at lesane.heidi@epa.gov.

SUPPLEMENTARY INFORMATION:

Table of Contents

I. What Action Is EPA Proposing?

II. What is the Background for EPA's Proposed Action?

III. Proposed Action

IV. Statutory and Executive Order Reviews

I. What Action Is EPA Proposing?

EPA is proposing to approve a source-specific SIP revision submitted by KDAQ on October 19, 2007. The purpose of the SIP revision is to change and update the Kentucky SIP with regard to applicable SO2 emissions limits for the TVA Paradise Plant located in Muhlenberg County, Kentucky. The new proposed limits are 1.2 lbs/mmBTU for all three units with limited bypass emissions of 3.1 lbs/mmBTU during scrubber maintenance on Unit 3. A previous source-specific SIP revision was approved by EPA on August 25, 1989 (54 FR 35326). The proposed change is consistent with Kentucky Revised Statutes Chapter 224.10-100, and associated KAR including 401 KAR 61:015, Appendix B. These KAR, which are SIP-approved, allow for an SO2 emission limit of 3.1 lbs/mmBTU at the TVA Paradise facility. The 3.1 lbs/mmBTU limit described in 401 KAR 61:015 was approved by EPA on June 24, 1983 (48 FR 28988) as part of Kentucky's control strategy for attaining and maintaining the primary SO2 NAAQS in Muhlenberg County. The current source specific revision proposes SO2 limits for TVA Paradise that are more stringent than those approved in August 25, 1989, however, 401 KAR 61:015 would be the backstop (i.e., emissions could not exceed those allowed pursuant to 401 KAR 61:015).

II. What Is the Background for EPA's Proposed Action?

The Clean Air Act (CAA) requires EPA to set NAAQS for pollutants considered to be harmful to public health and the environment. The CAA established two types of NAAQS: Primary and secondary NAAQS. Primary NAAQS are set in order to protect public health, including the health of sensitive populations such as asthmatics, children, and the elderly. Secondary NAAQS are set in order to protect public welfare, including protection against visibility impairment, damage to animals, crops, vegetation, and buildings. EPA has established primary and secondary NAAQS for the criteria pollutant SO2. Muhlenberg County, Kentucky, the location of the TVA Paradise facility, is currently designated as attainment for the primary and secondary SO2 NAAQS, as well as all of the other NAAQS.

In 1978, EPA designated Muhlenberg County, Kentucky, as nonattainment for primary and secondary SO2 NAAQS (43 FR 8962, March 3, 1978). In 1979 Kentucky submitted a SIP revision including its SO2 control strategy, which provided for attainment and maintenance of the SO2 NAAQS. As part of that submittal, the control strategy used dispersion modeling (mathematical formulations to characterize the atmospheric processes that disperse a pollutant emitted by a source) to show that more stringent SO2 emission limits at several sources, including the TVA Paradise facility, would be adequate to insure attainment of both the primary and secondary SO2 NAAQS.

Kentucky's 1979 SO2 control strategy SIP submittal included state regulations establishing SO2 emissions limits for steam generating plants in every county. Specifically, 401 KAR 61:015, sets the SO2 limit for each unit within a county depending on the type of fuel used by the unit and the rated heat input capacity for the specific unit. For facilities with a maximum rated heat input capacity of 21,000 BTU or more, like the TVA Paradise facility, the applicable SO2 limit, pursuant to 401 KAR 61:015, is 3.1 lbs/mmBTU on a 24-hour average. In addition to 401 KAR 61:015, the 1979 control strategy submittal also included a compliance schedule for TVA Paradise to achieve the 3.1 lb/mmBTU limit at each unit by September 1, 1982. Pursuant to the terms of a federal private party consent decree (Tennessee Thoracic Society v. Freeman, Case No. 77-3286, U.S. District Court for the Middle District of Tennessee) negotiated in 1979 and signed in December 1980, the TVA Paradise facility was allowed to meet a limit of 5.2 lbs/mmBTU limit at Unit 3 until December 1, 1983, at which time the facility was required to meet the limit of 3.1 lbs/mmBTU, pursuant to 401 KAR 61.015.

On October 31, 1980, EPA took final action to approve Kentucky's SO2 control strategy SIP, including approval of the 3.1 lb/mmBTU SO2 limit established by 401 KAR 61:015 (45 FR 72153). Subsequently, on June 24, 1983, EPA approved a request by Kentucky to redesignate Muhlenberg County to attainment for the primary SO2 NAAQS (48 FR 28988).

In 1987, TVA requested a redistribution of allowable SO2 emissions at the Paradise facility such that each of its three units would have a specific limit that when considered together, would be equivalent to 3.1 lbs/mmBTU averaged over a 24-hour period (as required by the KAR). The TVA Paradise facility has two units (Units 1 and 2) with an electric generating capacity of approximately 704 megawatts (MW) each, and a third unit (Unit 3) with an electric generating capacity of approximately 1150 MW. The 1987 submittal included an equivalency demonstration that explained how the unit-specific limits were equivalent to the KAR requirement of 3.1 lbs/mmBTU. As described in the 1987 submittal, for Units 1 and 2, the SO2 the emission limit would be 1.2 lbs/mmBTU, with a maximum heat input of 6,305 mmBTU/hour, and for Unit 3, the SO2 emission limit would be 5.4 lbs/mmBTU, with a maximum heat input of 10,390 mmBTU/hour. Kentucky's 1987 submittal also contained a final state operating permit issued to TVA for the Paradise facility (permit number 0-87-012) which included these new limits.

On August 25, 1989, EPA took final action to approve the source-specific SIP revision for TVA Paradise into the Kentucky SIP (54 FR 35326). EPA's approval of that revision was based on EPA's finding that the SO2 limits in addition to the heat input rates, made the redistribution equivalent to the SIP-approved 3.1 lbs/mmBTU limit. TVA's 1987 operating permit included the SO2 limits described in the 1989 SIP revision. The actions summarized above, including the 1989 final action and accompanying equivalency determination are available in the Docket for the current proposed action.

In 1998, EPA approved Kentucky's request to redesignate Muhlenberg County as attainment for the secondary SO2 NAAQS (63 FR 44143, August 18, 1998). Dispersion modeling performed by EPA and Kentucky demonstrated that the existing measures approved in the SIP (including the TVA Paradise source-specific SO2 emissions distribution) were adequate to protect the secondary SO2 NAAQS.

On October 19, 2007, Kentucky submitted to EPA a source-specific SIP revision requesting that the 1989 source-specific redistribution of SO2 emission limits for TVA Paradise be revised to account for new control technology at the facility. Kentucky proposed that the TVA Paradise facility be subject to specific limits discussed below which are more stringent than the backstop of Kentucky's SIP-approved KAR, requiring a 3.1 lbs/mmBTU. The rationale for the 1989 redistribution was the lack of control measures (a scrubber) on Unit 3. TVA has now installed a wet scrubber on Unit 3, and as a result, the 1989 redistribution is no longer necessary for the facility to comply with the SIP-approved 401 KAR 61:015. At this time, Units 1 and 2 are equipped with Venturi-type limestone slurry flue gas desulfurization (FGD) scrubbers, and Unit 3 is equipped with an electrostatic precipitator and a wet limestone FGD scrubber. The facility is now able to meet (and exceed) the requirements of 401 KAR 61:015 without a unit-specific redistribution.

As described by Kentucky in the October 2007 SIP submittal, due to the installation of control technology at the facility, it is now possible for the Paradise facility to meet not only the current KAR, but even further control the facility to meet a lower limit. Therefore, Kentucky proposed that the facility continue to meet an SO2 emissions limit of 1.2 lbs/mmBTU for Units 1 and 2, and also meet a limit of 1.2 lb/mmBTU on Unit 3 when the scrubber is operating. Because Unit 3 has a “single-module” scrubber which cannot be operated during maintenance events, Kentucky proposed that the facility meet the SIP-approved KAR limit of 3.1 lb/mmBTU on a 24-hour average during the limited times when the scrubber is bypassed for maintenance. Provisions limiting the number of hours when the scrubber can be by-passed are conditioned in the most recent title V operating permit issued on November 1, 2007, and shall not exceed 720 hours in any 12-month period. Kentucky's October 2007 source-specific SIP revision therefore proposes SO2 limits for the Paradise facility that are more stringent than the SIP-approved KAR. Kentucky's SIP submittal includes technical support information comparing the limits required by KAR with the current proposed source-specific revision. This information is available in the Docket for this proposed action. The new limits will be included in a CAA title V operating permit.

Consistent with Section 110 of the CAA, EPA is proposing to approve this revision to the Kentucky SIP. The revision would supersede the 1989 source-specific SIP revision for the TVA Paradise facility and subject the facility to the specific SO2 emission limits discussed above.

III. Proposed Action

EPA is proposing to approve a source-specific SIP revision submitted by KDAQ in October 2007 regarding the SO2 emission limits for the three units at the TVA Paradise Facility. This proposal would supersede the 1989 source-specific SIP revision and subject TVA Paradise to emission limits of 1.2 lbs/mmBTU at Units 1, 2, and 3, except that Unit 3 may meet the limit of 3.1 lbs/mmBTU that is established in 401 KAR 61:015 during the limited times when the Unit 3 scrubber is bypassed for maintenance. Now that TVA has installed the control technology necessary to achieve the KAR limit of 3.1 lbs/mmBTU at all three units of the Paradise facility, the previous redistribution is no longer necessary. This proposed revision is consistent with Section 110 of the CAA because it will continue to provide for attainment and maintenance of the SO2 NAAQS.

IV. Statutory and Executive Order Reviews

Under Executive Order 12866 (58 FR 51735, October 4, 1993), this proposed action is not a “significant regulatory action” and therefore is not subject to review by the Office of Management and Budget. For this reason, this proposed action is also not subject to Executive Order 13211, “Actions Concerning Regulations That Significantly Affect Energy Supply, Distribution, or Use” (66 FR 28355, May 22, 2001). This proposed action merely approves Kentucky law as meeting Federal requirements and imposes no additional requirements beyond those imposed by state law. Accordingly, the Administrator certifies that this rule will not have a significant economic impact on a substantial number of small entities under the Regulatory Flexibility Act (5 U.S.C. 601 et seq.). Because this rule proposes to approve pre-existing requirements under Kentucky law and does not impose any additional enforceable duty beyond that required by Kentucky law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This proposed action also does not have Federalism implications because it does not have substantial direct effects on the states, on the relationship between the national government and the states, or on the distribution of power and responsibilities among the various levels of government, as specified in Executive Order 13132 (64 FR 43255, August 10, 1999). This action merely proposes to approve a Kentucky rule implementing a Federal standard, and does not alter the relationship or the distribution of power and responsibilities established in the CAA. This proposed rule also is not subject to Executive Order 13045, “Protection of Children from Environmental Health Risks and Safety Risks” (62 FR 19885, April 23, 1997), because it is not economically significant.

In reviewing SIP submissions, EPA's role is to approve state choices, provided that they meet the criteria of the CAA. In this context, in the absence of a prior existing requirement for the Commonwealth to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Carbon monoxide, Intergovernmental relations, Nitrogen dioxide, Ozone, Particulate matter, Reporting and recordkeeping requirements, Sulfur oxides, Volatile organic compounds.

Authority: 42 U.S.C. 7401 et seq.

Dated: January 24, 2008
Russell L. Wright, Jr.,
Acting Regional Administrator, Region 4.

[FR Doc. E8-2089 Filed 2-4-08; 8:45 am]

BILLING CODE 6560-50-P